SOCIAL SECURITY ADMINISTRATION

Privacy Act of 1974 as Amended; Computer Matching Program (SSA/Office of Personnel Management (OPM)/Centers for Medicare & Medicaid Services (CMS))—Match Number 1301

AGENCY: Social Security Administration (SSA).

ACTION: Notice of a new computer matching program.

SUMMARY: In accordance with the provisions of the Privacy Act, as amended, this notice announces a new computer matching program that SSA will conduct with OPM and CMS.

DATES: SSA will file a report of the subject matching program with the Committee on Governmental Affairs of the Senate; the Committee on Government Reform of the House of Representatives and the Office of Information and Regulatory Affairs, Office of Management and Budget (OMB). The matching program will be effective as indicated below.

ADDRESSES: Interested parties may comment on this notice by either telefax to (410) 965-8582 or writing to the Associate Commissioner for Income Security Programs, 245 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Public Law (Pub. L.) 100-503), amended the Privacy Act (5 U.S.C. 552a) by describing the conditions under which computer matching involving the Federal Government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: April 2, 2004.
Martin H. Gerry,
Deputy Commissioner for Disability and Income Security Programs.

Notice of Computer Matching Program, Social Security Administration (SSA) With the Office of Personnel Management (OPM) and the Centers for Medicare & Medicaid Services (CMS)

A. Participating Agencies

SSA, OPM and CMS.

B. Purpose of the Matching Program

The purpose of this matching program is to establish conditions under which OPM agrees to the disclosure of civil service benefit and payment data to CMS via SSA. These disclosures will provide CMS with information to use in verifying an individual's self-certification of eligibility for Transitional Assistance under the Medicare Prescription Drug Discount Card Program provided under the Medicare Prescription Drug, Improvement and Modernization Act of 2003. SSA receives the pertinent data from OPM for existing computer matches, and is in a position to provide this data to CMS upon approval of the appropriate computer matching agreements.

C. Authority for Conducting the Matching Program:

Medicare Prescription Drug, Improvement and Modernization Act of 2003, Pub. L. 108-173, section 101, 117 Stat. 2066 (2003) and section 1106 (42 U.S.C. 1306) of the Social Security Act.

D. Categories of Records and Individuals Covered by the Matching Program

1. Specified Data Elements Used in the Match

a. OPM will electronically furnish CMS (transmitted via SSA) with the following civil service benefit and payment data: name, Social Security Number, civil service claim number, and amount of current gross civil service benefits.

b. To increase the efficiency and effectiveness of the program, SSA will receive the data from OPM and transmit it to CMS.

c. CMS will match this file against their database of prescription benefit participants and/or applicants.

2. Systems of Records

OPM will provide CMS (transmitted via SSA) with a file containing civil service benefit and payment data from the OPM System of Records published as OPM/Central-1 (Civil Service and Insurance Records), on October 8, 1999 (64 FR 54930), as amended on May 3, 2000 (65 FR 25775). Pursuant to 5 U.S.C. 552a(b)(3), OPM has established routine uses to disclose the subject information.

CMS will match the OPM information with the electronic data from the following system of records: Medicare Beneficiary Data Base, System Number 09-70-0536, published at 67 FR 63392 (December 6, 2001).

E. Inclusive Dates of the Matching Program

The matching program will become effective upon signing of the agreement by all parties to the agreement and approval of the agreement by the Data Integrity Boards of the respective agencies, but no sooner than 40 days after notice of the matching program is sent to Congress and the Office of Management and Budget, or 30 days after publication of this notice in the Federal Register, whichever date is later. The matching program will continue for 18 months from the effective date and may be extended for an additional 12 months thereafter, if certain conditions are met.

[FR Doc. 04-7952 Filed 4-7-04; 8:45 am]

BILLING CODE 4191-02-P